DEPARTMENT OF TRANSPORTATION

Federal Aviation Administration

14 CFR Part 61

[Docket No. FAA-2023-2083; Amdt. No. 61-154]

RIN 2120-AL89

Robinson Helicopter R-22 and R-44 Special Training and Experience Requirements

AGENCY: Federal Aviation Administration (FAA), Department of Transportation (DOT).

ACTION: Final rule.

SUMMARY: In this final rule, the FAA revises the Special Federal Aviation Regulation No. 73—Robinson R 22/R-44 Special Training and Experience Requirements to provide consistency with other FAA regulatory requirements, training, and Airman Certification Standards and Practical Test Standards. This final rule removes the low gravity flight instruction requirement to align this Special Federal Aviation Regulation with current aircraft placard requirements and the limitations section of the Robinson Helicopter Company Rotorcraft Flight Manual/Pilot Operating Handbook set forth by Airworthiness Directives. The FAA amends certain terminology in this Special Federal Aviation Regulation to mirror the Helicopter Flying Handbook, Airman Certification Standards, and Practical Test Standards. This final rule also clarifies the awareness training endorsement and flight review requirements for less experienced pilots, removes legacy dates, and updates the applicability section to include ground and flight training, including flight reviews provided by flight instructors. Finally, the FAA adds an expiration date to the Special Federal Aviation Regulation to allow the FAA time to review and refine the R-22 and R-44 requirements for ground training, aeronautical experience, including flight training, and flight reviews, before permanently adopting them into an independent separate subchapter.

DATES: Effective August 22, 2024.

ADDRESSES: For information on where to obtain copies of rulemaking documents and other information related to this final rule, see “How to Obtain Additional Information” in the SUPPLEMENTARY INFORMATION section of this document.

FOR FURTHER INFORMATION CONTACT: Cara M. Barbera, Training and Certification Group, General Aviation and Commercial Division, Federal Aviation Administration, 800 Independence Avenue SW, Washington, DC 20591; telephone (202) 267-1100; email Cara.Barbera@faa.gov.

SUPPLEMENTARY INFORMATION:

Table of Contents

I. Executive Summary

A. Overview of Regulatory Action

C. Summary of the Costs and Benefits

II. Authority for This Rulemaking

III. Background

A. History

D. AD 95-11-09 (R-22) and AD 95-11-10 (R-44) Low G Cyclic Pushover Prohibition Background

C. Summary of the Notice of Proposed Rulemaking

D. General Overview of Comments

IV. Discussion of Comments and the Final Rule

A. Support for the Rule

B. Suggested Changes to the Rule

V. Regulatory Notices and Analyses

A. Regulatory Impact Analysis

B. Regulatory Flexibility Act

C. International Trade Impact Assessment

D. Unfunded Mandates Assessment

E. Paperwork Reduction Act

F. International Compatibility

G. Environmental Analysis

VI. Executive Order Determinations

A. Executive Order 13132, Federalism

B. Executive Order 13175, Consultation and Coordination With Indian Tribal Governments

C. Executive Order 13211, Regulations That Significantly Affect Energy Supply, Distribution, or Use

D. Executive Order 13609, Promoting International Regulatory Cooperation

VII. Additional Information

A. Electronic Access and Filing

B. Small Business Regulatory Enforcement Fairness Act

I. Executive Summary

A. Overview of Regulatory Action

Special Federal Aviation Regulation (SFAR) No. 73, found in part 61 of title 14 of the Code of Federal Regulations, addresses Robinson Helicopter Company R-22 and R-44 special training and experience requirements. SFAR No. 73 currently requires flight training on the effects of low gravity (low G) maneuvers and proper recovery procedures. However, because of the inherent danger in performing low gravity maneuvers, Airworthiness Directives 95-11-09 ¹ and 95-11-10 ² prohibit intentionally inducing low gravity flight in Robinson Helicopter Company model R-22 and R-44 helicopters, contrary to certain requirements in the current SFAR requiring dual instruction (flight instruction) on the effects of low G maneuvers and proper recovery procedures. Therefore, this final rule removes the requirement in the SFAR to perform low gravity maneuvers during flight training due to safety concerns. However, low gravity hazards will continue to be addressed in ground training. Additionally, this final rule replaces the term “awareness training” with “ground training.”

¹ See AD 95-11-09, Robinson Helicopter Company Model R22 Helicopters (Jul. 14, 1995), https://drs.faa.gov/browse/excelExternalWindow/AB0E6D73A5A548F186256A4D006126BD.0001.

² See AD 95-11-10, Robinson Helicopter Company Model R44 Helicopters (Jul. 14, 1995), https://drs.faa.gov/browse/excelExternalWindow/FED1D31B434F466E86256A4D00613579.0001.

Additionally, this final rule updates SFAR No. 73 to align its terminology with other regulations and publications. Certain terminology used in the current SFAR is neither defined nor used in the same context as found in the Helicopter Flying Handbook (HFH),³ Airman Certification Standards, Practical Test Standards,⁴ and part 61. Specifically, updating the terms “awareness,” “certified/certificated flight instructor,” and “blade stall” provides consistency with part 61 terms and definitions without impacting preexisting requirements. In addition, the final rule replaces the term “enhanced” with more specific language detailing how to satisfy autorotation training in an R-22 and/or R-44 helicopter. The terminology changes do not require updates to endorsements, websites, or other publications.

³ See Helicopter Flying Handbook, FAA-H-8083-21B (2019) https://www.faa.gov/sites/faa.gov/files/regulations_policies/handbooks_manuals/aviation/helicopter_flying_handbook/helicopter_flying_handbook.pdf.

⁴ See Airman Certification Standards and Practical Test Standards https://www.faa.gov/training_testing/testing/acs. The FAA notes that the notice of proposed rulemaking (NPRM) (88 FR 71509, October 17, 2023) to this final rule only referred to alignment with the Practical Test Standards (PTSs), as no helicopter PTSs had transitioned to Airman Certification Standards (ACSs) yet. However, on April 1, 2024, the FAA issued a final rule incorporating the ACSs and PTSs, which included four newly published helicopter ACSs for: commercial pilot certificate, private pilot certificate, instrument rating, and flight instructor certificate. See 89 FR 22482.

Further, this final rule aligns certain provisions pertaining to applicability, ground training, and flight reviews. First, this rulemaking revises the applicability section in SFAR No. 73 by including applicability to flight instructors who conduct ground training, flight training, or a flight review. Second, the final rule clarifies the current model applicability endorsement within the ground training requirements. Third, this final rule refines the formatting of the aeronautical experience flight review requirements for less experienced pilots.

Finally, this final rule adds a five-year expiration date to SFAR No. 73. This allows the Federal Aviation Administration (FAA) time to review and refine the requirements for R-22 and R-44 helicopters for eventual movement into a permanent location in title 14 of the Code of Federal Regulations, chapter I.

To note, this final rule does not impose any additional requirements to the current regulations and practice, nor does it render current requirements less restrictive. Rather, the changes more clearly identify the current requirements for persons seeking to manipulate the flight controls, act as pilot in command, provide ground training or flight training, or conduct a flight review in a Robinson Helicopter Company model R-22 or R-44 helicopter that are unique to SFAR No. 73, and are not otherwise included in part 61.

After reviewing the comments received on the NPRM, the FAA did not make any changes to the final rule.

C. Summary of the Costs and Benefits

The final rule promotes safety without imposing costs by clarifying existing requirements, eliminating inconsistencies, and updating language. Thus, the FAA has determined that this final rule will have minimal economic effects.

II. Authority for This Rulemaking

The FAA's authority to issue rules on aviation safety is found in title 49 of the United States Code. Subtitle I, section 106 describes the authority of the FAA Administrator. Subtitle VII, Aviation Programs, describes the scope of the FAA's authority.

This rulemaking is promulgated under the authority described in subtitle VII, part A, subpart iii, section 44701, General Requirements. Under these sections, the FAA prescribes regulations and minimum standards for practices, methods, and procedures the Administrator finds necessary for safety in air commerce. This rulemaking is within the scope of that authority.

III. Background

A. History

The regulation at 14 CFR part 61 provides certification requirements for pilots, flight instructors, and ground instructors. Subparts C through G of part 61 contain training requirements for applicants seeking rotorcraft category and helicopter class ratings. These requirements do not address specific types or models of rotorcraft. However, in 1995, the FAA determined that specific training and experience requirements were necessary for the safe operation of Robinson Helicopter Company (Robinson) model R-22 and R-44 helicopters.⁵ ⁶

⁵ See Robinson R-22/R-44 Special Training and Experience Requirements, 60 FR 11254 (Mar. 27, 1995).

⁶ The FAA notes that such an action to address additional training and experience for a type of aircraft is not unique. For example, the FAA initially created an SFAR and later codified regulations specific to the Mitsubishi MU-2B to ensure safe operation. See 81 FR 61584.

The R-22 helicopter is a two-seat, reciprocating engine-powered helicopter frequently used in initial student pilot training. The R-22 is one of the smallest helicopters in its class and incorporates a unique cyclic control and teetering rotor system. The R-44 is a four-seat helicopter with operating characteristics and design features that are similar to the R-22. Certain aerodynamic and design features of these aircraft result in specific flight characteristics that require particular pilot knowledge and responsiveness to operate these models safely.⁷

⁷ See 60 FR 11254.

The FAA issued a type certificate to Robinson in 1979. However, as explained in the 1995 final rule, the R-22 had a high number of fatal accidents due to main rotor/airframe contact when compared to other piston powered helicopters. In its analysis of accident data, the FAA found that many of those accidents were attributed to pilot performance or inexperience, where low rotor revolutions per minute (RPM) or low G conditions caused mast bumping or main rotor-airframe contact accidents.

Therefore, the FAA determined additional specific pilot training was necessary for the safe operation of these helicopters as part of a comprehensive program that responded to a high number of accidents.⁸ Furthermore, the R-44 had also been recently certified, and the FAA was concerned that the R-44 would experience the same frequency of accidents because of its similar design to the R-22. Accordingly, the FAA issued SFAR No. 73, which addressed pilot training and requirements for flight instructors and continued flight reviews in the specific model to be flown.⁹

⁸ Other elements of this program included addressing design and operational issues, cited by the National Transportation Safety Board (NTSB) as possible contributing factors in some of the accidents.

⁹ See 60 FR 11254.

While accidents in the R-22 and R-44 helicopters have declined markedly since SFAR No. 73 was issued, the NTSB recommended the FAA ensure that SFAR No. 73, the Flight Standards Board specifications, and the Airworthiness Directives (ADs) applicable to the operation of the R-22 and R-44 be made permanent.¹⁰ According to a special investigation report the NTSB issued on April 2, 1996, the special operating rules for flight instructors and students and low-experience and non-proficient pilots must continue to ensure the safe operation of these helicopter models.

¹⁰ See National Transportation Safety Board, Special Investigation Report, Robinson Helicopter Company R22 Loss of Main Rotor Control Accidents, Adopted April 2, 1996, https://www.ntsb.gov/safety/safety-studies/Documents/SIR9603.pdf.

As discussed in the NPRM,¹¹ in 2021, the FAA formed a Safety Risk Management (SRM) Team to perform an assessment of SFAR No. 73 to, first, analyze hazards associated with operating and training pursuant to SFAR No. 73 and, second, to determine whether the SFAR effectively controls risk or is no longer needed. The SRM Team's analysis resulted in six proposed modifications of the Robinson Helicopter R-22 and R-44 Special Training and Experience Requirements, which may be found in the docket to this rulemaking.¹² The SRM recommended the FAA: determine which elements of SFAR No. 73 currently mitigate hazards and should be retained or are no longer required; develop permanent regulatory requirements; determine actions required for SFAR 73 requirements that are not captured in rulemaking; ensure implementation of the SRM recommendations consider limitation in AD 95-26-04; ¹³ add an expiration date to the SFAR (should it remain in place); and, perform a gap analysis of the SFAR and the SRM recommendations. The SRM recommendation regarding the development of permanent regulatory requirements specifies that changes made to experience and endorsements be driven by the evaluation of data related to the instructor requirements, solo experience, and pilot-in-command (PIC) requirements for the Robinson R-44 model.¹⁴ Although the SRM process is separate, some of the SRM Team's assessment has supported this rulemaking effort, which is reflected in this final rule. Items that would impact substantive requirements for special training or experience established by this SFAR do not fall under the scope of this rulemaking.

¹¹ 88 FR 71510.

¹² See Final Report for the SFAR 73, Robinson R-22/R-44 Special Training and Experience Requirements Safety Risk Assessment (May 13, 2022), https://www.regulations.gov/document/FAA-2023-2083-0002.

¹³ See AD 95-26-04, Robinson Helicopter Company Model R22 Helicopters (January 1, 1996), https://drs.faa.gov/browse/excelExternalWindow/91BE0874983FB92686256A4D0061449D.0001.

¹⁴ As discussed in this preamble, this final rule adds an expiration date to the SFAR as a first step in facilitating a permanent rulemaking of R-22 and R-44 training requirements.

Since SFAR No. 73 was published, Robinson model R-22 and R-44 helicopters have continued to operate throughout the world. Although other international civil aviation authorities have taken different approaches to implementing pilot certification standards, Robinson makes advisory material and safety alerts available to all operators worldwide.¹⁵ Additionally, safety notices, available both in the Pilot's Operating Handbook/Rotorcraft Flight Manual (POH/RFM) ¹⁶ and on the Robinson website, emphasize subject matter found in SFAR No. 73. Although these notices are not regulatory in nature, they provide guidance and recommended practices to operators for all Robinson helicopters.

¹⁵ See Robinson Helicopter Company Safety Notices, https://robinsonheli.com/robinson-safety-notices/.

¹⁶ See Robinson Helicopter Company POH/FRM https://robinsonheli.com/current-status/.

D. AD 95-11-09 (R-22) and AD 95-11-10 (R-44) Low G Cyclic Pushover Prohibition Background

SFAR No. 73 consists of ground and flight training requirements, including low G flight training.¹⁷ However, shortly after the initial adoption of the SFAR in 1995, the FAA prohibited intentionally inducing low G flight in R-22 and R-44 helicopters due to the inherent risk in performing those maneuvers through ADs 95-11-09 (R-22) ¹⁸ and 95-11-10 (R-44).¹⁹ That action was prompted by FAA analysis of the manufacturer's data that indicated a low G cyclic pushover maneuver may result in mast-bumping on the Robinson model R-22 helicopters. If uncorrected, this condition could result in an in-flight main rotor separation or contact between the main rotor blades and the airframe of the helicopter and subsequent loss of control of the helicopter. The FAA found this condition could also occur in a Robinson model R-44 helicopter due to the similar operating characteristics and design features. The ADs require the installation of placards in the helicopter and the insertion of a prohibition against low G cyclic pushover maneuvers into the limitations section of the RFM/POH.

¹⁷ See 14 CFR part 61, Special Federal Aviation Regulation No. 73—Robinson R-22/R-44 Special Training and Experience Requirements.

¹⁸ See AD 95-11-09, Robinson Helicopter Company Model R22 Helicopters (Jul. 14, 1995), https://drs.faa.gov/browse/excelExternalWindow/AB0E6D73A5A548F186256A4D006126BD.0001.

¹⁹ See AD 95-11-10, Robinson Helicopter Company Model R44 Helicopters (Jul. 14, 1995), https://drs.faa.gov/browse/excelExternalWindow/FED1D31B434F466E86256A4D00613579.0001.

C. Summary of the Notice of Proposed Rulemaking

On October 17, 2023, the FAA published an NPRM that proposed to update SFAR No. 73, Robinson R-22/R-44 Special Training and Experience Requirements, to provide consistency with other FAA regulatory requirements, training, and testing publications.²⁰ Specifically, the NPRM proposed to remove the low G dual flight instruction requirement to align the SFAR with current aircraft placard requirements and the limitations section of the RFM/POH set forth by ADs. Although the FAA proposed to remove the requirement for flight training on the effects of low G maneuvers and proper recovery procedures under paragraph 2(b) of SFAR No. 73 (aeronautical experience), the FAA proposed to continue to require low G maneuvers and proper recovery procedures as a ground training (currently referred to as “awareness training”) subject area under paragraph 2(a)(3).

²⁰ See Robinson Helicopter R-22 and R-44 Special Training and Experience Requirements, 88 FR 71509 (Oct. 17, 2023).

The NPRM also proposed to update the SFAR to mirror the terminology currently used in part 61, the Helicopter Flying Handbook, Airman Certification Standards, and Practical Test Standards. First, paragraph 2(a) of SFAR No. 73 currently uses the term “awareness training” to distinguish ground training requirements from aeronautical experience requirements, which does not have a part 61 definition. Conversely, ground training is defined in § 61.1(b) as “training, other than flight training, received from an authorized instructor.” Therefore, the FAA proposed to replace the term “awareness training” in paragraph 2(a) with “ground training.” ²¹

²¹ As discussed in the NPRM, upon effectivity of this final rule, the FAA will interpret endorsements, websites, or other publications and documents that use the term “awareness training” as synonymous with the term “ground training” as defined in 14 CFR 61.1(b).

Second, part 61 does not define the term “enhanced.” In the context of the SFAR, the FAA intends “enhanced” to mean different autorotation iterations. However, the term lacks sufficient specificity to adequately inform the regulated community what autorotation maneuvers are expected to be performed.²² Therefore, the FAA proposed to remove the term “enhanced” from paragraphs 2(b)(1)(ii), 2(b)(2)(ii), 2(b)(3) and (4), and 2(b)(5)(iii) of the SFAR and clarify it with language specifying that the training must include autorotation procedures and energy management, including utilizing a combination of flight control inputs and maneuvering to prevent overshooting or undershooting the selected landing area from an entry altitude that permits safe recovery. As discussed in the NPRM, the R-22 training differs slightly from the R-44 training because the RFM/POH does not provide information for airspeed and main rotor revolutions per minute to perform an autorotation minimum rate of descent configuration, whereas the R-44 flight manual establishes those flight parameters.²³ The FAA proposed that the new sections will require flight training to include autorotations at an entry altitude that permits safe maneuvering and recovery utilizing maximum glide configuration for the Robinson model R-22 and R-44 helicopter and minimum rate of descent configuration for the Robinson model R-44 helicopter.

²² See 88 FR 71512.

²³ See 88 FR 71513.

Third, the terminology “low rotor RPM (blade stall)” is currently identified as a ground training topic in paragraph 2(a)(3)(iii). This ground training topic places blade stall in parentheticals, which could suggest that low rotor RPM and blade stall are synonymous. However, they are different topics; low RPM is the onset of the emergency, and stall is the state at which the aircraft becomes unrecoverable. Therefore, the NPRM proposed to remove the parentheticals and label this ground topic as “low rotor RPM and rotor stall” to better align SFAR No. 73 terminology with the HFH.²⁴

²⁴ See Helicopter Flying Handbook, FAA-H-8083-21B (2019) https://www.faa.gov/sites/faa.gov/files/regulations_policies/handbooks_manuals/aviation/helicopter_flying_handbook/helicopter_flying_handbook.pdf.

Finally, the NPRM proposed to remove the terms “certified” and “certificated” from SFAR No. 73 when used to describe flight instructors. The FAA proposed using flight instructor authorization requirements specific to SFAR No. 73, paragraph 2(b)(5)(iv), throughout the SFAR, where appropriate.

The NPRM also proposed to clarify the annual flight review requirements for less experienced pilots (i.e., those pilots who have not had at least 200 flight hours in helicopters, at least 50 of which were in the Robinson model R-22 or R-44, as applicable).²⁵ Such flight review requirements are currently identified in paragraphs 2(b)(1)(ii) and 2(b)(2)(ii) of the SFAR and are grouped together in the same paragraph that describes the general pilot-in-command flight training. The annual flight review conditions for less experienced pilots in this grouping are not clearly stated or easily discernable from the general pilot-in-command flight training. Furthermore, these flight review requirements do not specify which subjects less experienced pilots must accomplish to satisfy the ground training portion of the flight review. To resolve these issues, the FAA proposed to move the annual flight review requirements located in paragraphs 2(b)(1)(ii) and 2(b)(2)(ii) for that specified group of pilots to separate paragraphs 2(b)(1)(iii) and 2(b)(2)(iii) and identify the general subject areas (from current awareness training, now required ground training) and the associated abnormal and emergency procedures. The FAA noted in the NRPM that the change would not impact the flight review requirements outlined in paragraph 2(c) (other than conforming editorial revisions).

²⁵ As established in the first publication of the final rule for SFAR No. 73 in 1995, pilots who do not meet a threshold experience level in the R-22 or R-44 (i.e., those with less than 200 flight hours in helicopters and at least 50 hours in the model of Robinson helicopters) are required to complete an annual flight review to continue to act as PIC in the R-22 or R-44, as appropriate. This requirement is in addition to the flight review requirements outlined in 2(c) of the respective model of helicopter and consist of the ground and flight as proposed in paragraphs 2(b)(1)(iii) and 2(b)(2)(iii) of the NPRM.

Additionally, the NPRM proposed three revisions largely editorial in nature. First, the FAA proposed to remove the long-expired compliance dates in paragraphs 2(a)(1), (2), and (4). Next, the FAA proposed to update the applicability section in paragraph 1 to include persons who provide ground and flight training and who conduct a flight review in a Robinson R-22 or R-44 helicopter. Finally, the FAA proposed to add an expiration date to the SFAR to allow the FAA time to review and refine the R-22 and R-44 requirements set forth in this SFAR before permanent codification.

In response to public comments received on or before the comment period closed on December 18, 2023, the FAA finds the proposed revisions to the regulations sufficient to achieve the goal of the rulemaking, which is to update and clarify the SFAR. This preamble subsequently responds to comments, and this final rule adopts the NPRM's proposal without changes.

D. General Overview of Comments

The FAA received and considered five comments on the NPRM, consisting of comments from Robinson, Helicopter Association International (HAI),²⁶ and three individuals. A majority of the commenters supported the rule, which included three commenters expressing support in addition to proposing changes. Two individual commenters neither supported nor opposed the rule, however, one of these commenters provided a suggestion. None of the commenters opposed the proposed rule.

²⁶ The FAA notes that on February 26, 2024, the commenter announced the renaming of Helicopter Association International (HAI) to Vertical Aviation International (VAI).

IV. Discussion of Comments and the Final Rule

A. Support for the Rule

The majority of commenters expressed support for the NPRM's proposed changes to SFAR No. 73. HAI agreed with the modifications as proposed and reiterated that the proposal would eliminate the conflict between the low G flight requirements in SFAR No. 73 and ADs 95-11-09 and 95-11-10. HAI also supported the proposed five-year expiration date for SFAR No. 73 with the understanding that its content will eventually be moved to a permanent location in Title 14. HAI provided recommendations pertaining to analyses and reviews to inform the FAA's future permanent rulemaking, which is subsequently discussed in section IV.B of this preamble.

Robinson stated that the NPRM provides a number of necessary revisions to clarify requirements and opined on the SRM Team assessment, which is subsequently discussed in section IV.B of this preamble. An individual commenter also agreed with the proposal but stated that the training requirement for the R22 and R44 as promulgated by the original SFAR should only have required low G avoidance rather than requiring low G maneuvers to be conducted on purpose. While this recommendation neither supports nor opposes the proposed rule, the FAA finds that the revisions as set forth in this rulemaking align with the commenter's statement (i.e., not conducting low G maneuvers purposefully in flight). Additionally, another individual commenter specifically agreed with the proposed removal of effects of low G maneuvers and proper recovery procedures from flight training requirements. This commenter further suggested those concepts be added to the ground training topics set forth in paragraph 2(a) (currently termed “awareness training”); the FAA notes such changes were already proposed in the NPRM.

B. Suggested Changes to the Rule

Three commenters suggested changes to the proposed regulatory text, asked specific questions, or made related recommendations.

An individual commenter stated that a flight instructor authorized to provide training outlined in SFAR No. 73 should not be required to complete two flight reviews in the R-22 and R-44 every two years. The commenter further commented that this issue should be addressed after the SFAR expires, if not sooner. The FAA interprets the commenter as disagreeing with the current model-specific flight review requirements for those who are eligible to function as PIC in the R-22 and/or R-44, found in paragraph 2(c) of the SFAR. To operate as PIC in either the R-22 or R-44, paragraph 2(c) requires a model-specific flight review, which includes satisfying applicable requirements in § 61.56, ground training outlined in paragraph 2(a)(3), and flight training in abnormal and emergency procedures required by paragraph 2(b) for the appropriate model aircraft. Flight instructor experience conducting training in an R-22 or R-44 helicopter does not replace the flight review requirements as described in paragraph 2(c) that provide for regular assessment of pilot skills and aeronautical knowledge to act as PIC.

As discussed in the NPRM to this rule and original rulemaking for the SFAR, all pilots, regardless of their level of experience, must have a greater awareness of the flight conditions that have led to main rotor/airframe contact accidents in Robinson model R-22 and R-44 helicopters and have the capability to respond appropriately when those conditions are encountered.²⁷ Supplemental analysis, including by the FAA Flight Standardization Board (FSB) 28 29 and by the NTSB,³⁰ supports model-specific flight reviews as necessary for the Robinson model R-22 and R-44 helicopters to ensure pilots maintain proficiency and competency over time. A flight instructor who is also acting as PIC of a Robinson model R-22 and/or R-44 helicopter must comply with the model-specific flight review requirements established in paragraph 2(c). Given the accident history of the R-22 and R-44 and the lack of any changed information to support the elimination of model-specific flight reviews (i.e., two separate flight reviews for those persons who seek to instruct and may act as PIC in both the R-22 and R-44 helicopter), the FAA will not adopt the recommendation to remove model-specific flight review requirements.

²⁷ See Robinson R-22/R-44 Special Training and Experience Requirements, 60 FR 11254 (Mar. 27, 1995).

²⁸ Robinson R-22 Flight Standardization Report, Published February 15, 1995, https://drs.faa.gov/browse/excelExternalWindow/DRSDOCID162186082420240430181938.0001;

Robinson R-22 Flight Standardization Report, Published December 17, 2018, https://drs.faa.gov/browse/excelExternalWindow/12EA7A537A55143F86258394006281DB.0001;

Robinson R-44 Flight Standardization Report, Published February 15, 1995, https://drs.faa.gov/browse/excelExternalWindow/DRSDOCID186317524120240430200522.0001;

Robinson R-44 Flight Standardization Report, Published December 17, 2018, https://drs.faa.gov/browse/excelExternalWindow/17AE3EE7274CD67E86258394006301A2.0001.

²⁹ The first published SFAR No. 73, with an effective date of March 27, 1995, adopted specific training and experience recommendations put forth by a Flight Standardization Board (FSB) and recorded in FSB Reports Robinson model R-22 and R-44 dated February 15, 1995. This FSB Report was later revised on December 17, 2018, which references training requirements as outlined in SFAR No. 73. The NTSB Special Investigation Report published on April 12,1996 further recommended that FSB specifications are made permanent.

³⁰ See National Transportation Safety Board, Special Investigation Report, Robinson Helicopter Company R22 Loss of Main Rotor Control Accidents, Adopted April 2, 1996, https://www.ntsb.gov/safety/safety-studies/Documents/SIR9603.pdf.

In addition to generally agreeing with the NPRM, Robinson's comment also noted general concerns with their lack of involvement in the SFAR No. 73 rulemaking process and the rationale of proposing to integrate only some of the SRM Team's recommendations.³¹ Specifically, Robinson noted a lack of explanation as to why, first, certain recommendations from the safety risk assessment were included in the NPRM while others were not and, second, why Robinson's request to remove the R-44 from SFAR No. 73 requirements, as noted in the SRM report, was not incorporated into the rulemaking. This rulemaking was not intended to implement all recommendations set forth by the SRM Team. The SRM Team's recommendations that would change required specialized training and experience (i.e., substantive revisions to the SFAR), including modifications to the requirements for the Robinson model R-44 helicopter, are identified in the SRM report as items to assess during the development of permanent requirements. Conversely, the FAA undertook this rulemaking to adopt recommendations that would not substantively change the current training and experience regime as the first step in a tiered, long-term revision to the SFAR. Specifically, as previously stated, the FAA intends the five-year time period (as promulgated by the expiration date added to the SFAR in this final rule) to allow the FAA time to review and refine the R-22 and R-44 requirements for ground training, aeronautical experience, including flight training, and flight reviews. Therefore, the FAA will not make any changes to the final rule resulting from Robinson's recommendation.

³¹ As noted in the SRM report found in this docket (FAA-2023-2083), subject matter experts (SMEs) from the FAA and industry were invited to provide their input. Tables 1, 2, and 3 in the report list the members, observers, and facilitation team of the SRM Team, respectively. While in many cases there are multiple SRM Team members from a single organization, each organization on the SRM Team received one vote when it came time to identify hazards, determine risk levels, and develop safety recommendations. The organizations included members from Robinson Helicopter Company and HAI. The FAA notes that the public, including stakeholders such as Robinson, does not partake in the process of drafting and issuing an NPRM, but had the opportunity to provide input for due consideration during the comment period.

Lastly, HAI recommended that the FAA immediately establish an appropriate government or industry body tasked with providing research and recommendations informing the FAA's plan to review or revise current R-22 and R-44 requirements, to sunset SFAR No. 73, and to move the applicable requirements to a permanent location in title 14. Specifically, HAI recommended the FAA either charter a Robinson Model R-22 and R-44 helicopter training and experience Aviation Rulemaking Committee ³² or task the Aviation Rulemaking Advisory Committee ³³ with establishing an industry working group. The FAA acknowledges that these are possible options to evaluate requirements for Robinson model R-22 and R-44 helicopters for future rulemaking. The scope of this final rule is solely to clarify and update current requirements in SFAR No. 73. The FAA will not make any changes to the final rule based on this recommendation.

³² Aviation Rulemaking Committee (ARC)—A rulemaking committee that provides information, advice and recommendations to the FAA. The FAA has the sole authority to establish and task ARCs, which are not subject to Federal Advisory Committee Act (FACA) and therefore somewhat more flexible. ARCs are formed on an ad hoc basis, for a specific purpose, and are typically of limited duration. https://www.faa.gov/regulations_policies/rulemaking/committees/documents/index.cfm/committee/definitions.

³³ Aviation Rulemaking Advisory Committee (ARAC)—A formal standing advisory committee that is subject to FACA and provides the FAA with information, advice, and recommendations, concerning rulemaking activity for topics such as aircraft owners and operators, airman and flight crewmembers, airports, maintenance providers, manufactures, public citizens and passenger groups, and training providers. https://www.faa.gov/regulations_policies/rulemaking/committees/documents/index.cfm/committee/definitions.

V. Regulatory Notices and Analyses

Federal agencies consider impacts of regulatory actions under a variety of executive orders and other requirements. First, Executive Order 12866 and Executive Order 13563, as amended by Executive Order 14094 (“Modernizing Regulatory Review”), direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100 million or more (adjusted annually for inflation) in any one year. The current threshold after adjustment for inflation is $183 million using the most current (2023) Implicit Price Deflator for the Gross Domestic Product. This portion of the preamble summarizes the FAA's analysis of the economic impacts of this rule.

In conducting these analyses, the FAA has determined that this rule: will result in benefits that justify costs; is not a “significant regulatory action” as defined in section 3(f) of Executive Order 12866, as amended; will not have a significant economic impact on a substantial number of small entities; will not create unnecessary obstacles to the foreign commerce of the United States; and will not impose an unfunded mandate on State, local, or tribal governments, or on the private sector.

A. Regulatory Impact Analysis

This final rule removes a flight training requirement from SFAR No. 73 that cannot be currently performed in the aircraft because it is inconsistent with Airworthiness Directives (ADs) related to Robinson model R-22 and R-44 helicopters. It is current practice not to perform the flight training maneuver notwithstanding the regulatory requirement in the SFAR; therefore, the change imposes no new cost. The FAA expects the final rule to promote safety without imposing costs by clarifying requirements, eliminating inconsistencies, and updating language.

The rule is needed to resolve a contradiction between SFAR No. 73, which requires low G maneuvers during flight training for Robinson R-22 and R-44 helicopters, and subsequent ADs that prohibit low G cyclic pushover maneuvers in these aircraft. The FAA originally promulgated SFAR No. 73 in 1995 in response to a series of fatal accidents attributed to pilot inexperience resulting in main rotor and airframe contact. To address these safety concerns, SFAR No. 73 established special awareness training, aeronautical experience, endorsement, and flight review requirements for pilots operating Robinson R-22 and R-44 helicopters. However, within months, the FAA issued ADs requiring the insertion of limitations in the rotorcraft flight manual and aircraft placards prohibiting low G cyclic pushover maneuvers. The final rule removes the requirement for low G maneuvers during in-flight training from SFAR No. 73 while continuing ground training related to low G conditions and proper recovery procedures. The final rule makes other conforming changes to improve clarity and consistency without creating new information collections or requiring immediate changes to current industry or FAA publications and documents.

Based on this information, the FAA has determined that the final rule will have minimal economic effects.

B. Regulatory Flexibility Act

The Regulatory Flexibility Act (RFA) of 1980 (5 U.S.C. 601-612), as amended by the Small Business Regulatory Enforcement Fairness Act of 1996 (Pub. L. 104-121) and the Small Business Jobs Act of 2010 (Pub. L. 111-240), requires Federal agencies to consider the effects of the regulatory action on small business and other small entities and to minimize any significant economic impact. The term “small entities” comprises small businesses, and not-for-profit organizations that are independently owned and operated and are not dominant in their fields, and governmental jurisdictions with populations of less than 50,000.

Agencies must perform a review to determine whether a rule will have a significant economic impact on a substantial number of small entities. If the agency determines that it will, the agency must prepare a regulatory flexibility analysis as described in the RFA. However, if an agency determines that a rule is not expected to have a significant economic impact on a substantial number of small entities, section 605(b) of the RFA provides that the head of the agency may so certify and a regulatory flexibility analysis is not required. The certification must include a statement providing the factual basis for this determination with a reasoned explanation.

The final rule applies most directly to providers of training for Robinson model R-22 and R-44 helicopters. Some of these training providers are small entities. However, the final rule does not impose new burdens. The final rule aligns SFAR No. 73 with current practice and Airworthiness Directives (ADs) related to Robinson model R-22 and R-44 helicopter training requirements. Total training hours remain the same. The final rule also updates language and makes other conforming changes to improve clarity and consistency regarding training for Robinson model R-22 and R-44 helicopters without imposing new recordkeeping or other requirements.

If an agency determines that a rulemaking will not result in a significant economic impact on a substantial number of small entities, the head of the agency may so certify under section 605(b) of the RFA. Therefore, the FAA certifies that the rule will not have a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this final rule and determined that the rule responds to a domestic safety objective. The FAA has determined that this rule is not considered an unnecessary obstacle to trade.

D. Unfunded Mandates Assessment

The Unfunded Mandates Reform Act of 1995 (2 U.S.C. 1531-1538) governs the issuance of Federal regulations that require unfunded mandates. An unfunded mandate is a regulation that requires a State, local, or tribal government or the private sector to incur direct costs without the Federal Government having first provided the funds to pay those costs. The FAA determined that the rule will not result in the expenditure of $183 million or more by State, local, or tribal governments, in the aggregate, or the private sector, in any one year. This rule does not contain such a mandate; therefore, the requirements of Title II of the Act do not apply.

E. Paperwork Reduction Act

The Paperwork Reduction Act of 1995 (44 U.S.C. 3507(d)) requires that the FAA consider the impact of paperwork and other information collection burdens imposed on the public. The FAA has determined that there is no new requirement for information collection associated with this final rule.

F. International Compatibility

In keeping with U.S. obligations under the Convention on International Civil Aviation, it is FAA policy to conform to International Civil Aviation Organization (ICAO) Standards and Recommended Practices to the maximum extent practicable. The FAA has determined that there are no ICAO Standards and Recommended Practices that correspond to these regulations.

G. Environmental Analysis

FAA Order 1050.1F identifies FAA actions that are categorically excluded from preparation of an environmental assessment or environmental impact statement under the National Environmental Policy Act (NEPA) in the absence of extraordinary circumstances. The FAA has determined this rulemaking action qualifies for the categorical exclusion identified in paragraph 5-6.6f for regulations and involves no extraordinary circumstances.

VI. Executive Order Determinations

A. Executive Order 13132, Federalism

The FAA has analyzed this final rule under the principles and criteria of Executive Order (E.O.) 13132, Federalism. The FAA has determined that this action will not have a substantial direct effect on the States, or the relationship between the Federal Government and the States, or on the distribution of power and responsibilities among the various levels of government, and, therefore, will not have federalism implications.

B. Executive Order 13175, Consultation and Coordination With Indian Tribal Governments

Consistent with Executive Order 13175, Consultation and Coordination with Indian Tribal Governments,³⁴ and FAA Order 1210.20, American Indian and Alaska Native Tribal Consultation Policy and Procedures,³⁵ the FAA ensures that Federally Recognized Tribes (Tribes) are given the opportunity to provide meaningful and timely input regarding proposed Federal actions that have the potential to have substantial direct effects on one or more Indian tribes, on the relationship between the Federal Government and Indian tribes, or on the distribution of power and responsibilities between the Federal Government and Indian tribes; or to affect uniquely or significantly their respective Tribes. At this point, the FAA has not identified any unique or significant effects, environmental or otherwise, on tribes resulting from this final rule.

³⁴ 65 FR 67249 (Nov. 6, 2000).

³⁵ FAA Order No. 1210.20 (Jan. 28, 2004), available at https://www.faa.gov/documentLibrary/media/1210.pdf.

C. Executive Order 13211, Regulations That Significantly Affect Energy Supply, Distribution, or Use

The FAA analyzed this final rule under E.O. 13211, Actions Concerning Regulations that Significantly Affect Energy Supply, Distribution, or Use (May 18, 2001). The FAA has determined that it will not be a “significant energy action” under the executive order and would not be likely to have a significant adverse effect on the supply, distribution, or use of energy.

D. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609 and has determined that this action will have no effect on international regulatory cooperation.

VII. Additional Information

A. Electronic Access and Filing

A copy of the NPRM, all comments received, this final rule, and all background material may be viewed online at https://www.regulations.gov using the docket number listed above. A copy of this final rule will be placed in the docket. Electronic retrieval help and guidelines are available on the website. It is available 24 hours each day, 365 days each year. An electronic copy of this document may also be downloaded from the Office of the Federal Register's website at https://www.federalregister.gov and the Government Publishing Office's website at https://www.govinfo.gov. A copy may also be found on the FAA's Regulations and Policies website at https://www.faa.gov/regulations_policies.

Copies may also be obtained by sending a request to the Federal Aviation Administration, Office of Rulemaking, ARM-1, 800 Independence Avenue SW, Washington, DC 20591, or by calling (202) 267-9677. Commenters must identify the docket or notice number of this rulemaking.

All documents the FAA considered in developing this final rule, including economic analyses and technical reports, may be accessed in the electronic docket for this rulemaking.

B. Small Business Regulatory Enforcement Fairness Act

The Small Business Regulatory Enforcement Fairness Act (SBREFA) of 1996 requires the FAA to comply with small entity requests for information or advice about compliance with statutes and regulations within its jurisdiction. A small entity with questions regarding this document may contact its local FAA official or the person listed under the FOR FURTHER INFORMATION CONTACT heading at the beginning of the preamble. To find out more about SBREFA on the internet, visit https://www.faa.gov/regulations_policies/rulemaking/sbre_act/.

List of Subjects in 14 CFR Part 61

Aircraft, Airmen, Aviation safety, Reporting and recordkeeping requirements.

The Amendment

In consideration of the foregoing, the Federal Aviation Administration amends chapter I of title 14, Code of Federal Regulations as follows:

PART 61—CERTIFICATION: PILOTS, FLIGHT INSTRUCTORS, AND GROUND INSTRUCTORS

1. The authority citation for part 61 continues to read as follows:

Authority: 49 U.S.C. 106(f), 106(g), 40113, 44701-44703, 44707, 44709-44711, 44729, 44903, 45102-45103, 45301-45302; Sec. 2307 Pub. L. 114-190, 130 Stat. 615 (49 U.S.C. 44703 note); and sec. 318, Pub. L. 115-254, 132 Stat. 3186 (49 U.S.C. 44703 note).

2. Revise Special Federal Aviation Regulation No. 73 to read as follows:

Special Federal Aviation Regulation No. 73—Robinson Helicopter Company, Robinson R-22/R-44 Special Training and Experience Requirements

Sections

1. Applicability.

2. Required training, aeronautical experience, endorsements, and flight review.

3. Expiration date.

1. Applicability. Under the procedures prescribed in this section, this Special Federal Aviation Regulation (SFAR) applies to all persons who seek to manipulate the controls, act as pilot in command, provide ground training or flight training, or conduct a flight review in a Robinson model R-22 or R-44 helicopter. The requirements stated in this SFAR are in addition to the current requirements of this part.

2. Required training, aeronautical experience, endorsements, and flight review.

(a) Ground Training.

(1) Except as provided in paragraph 2(a)(2) of this SFAR, no person may manipulate the controls of a Robinson model R-22 or R-44 helicopter-for the purpose of flight unless the ground training specified in paragraph 2(a)(3) of this SFAR is completed and the person's logbook has been endorsed by a flight instructor authorized under paragraph 2(b)(5)(iv) of this SFAR.

(2) A person who holds a rotorcraft category and helicopter class rating on that person's pilot certificate and meets the experience requirements of paragraph 2(b)(1) or paragraph 2(b)(2) of this SFAR may not manipulate the controls of a Robinson model R-22 or R-44 helicopter for the purpose of flight unless the ground training specified in paragraph 2(a)(3) of this SFAR is completed and the person's logbook has been endorsed by a flight instructor authorized under paragraph 2(b)(5)(iv) of this SFAR.

(3) Ground training must be conducted by a flight instructor who has been authorized under paragraph 2(b)(5)(iv) of this SFAR and consists of the following general subject areas:

(i) Energy management;

(ii) Mast bumping;

(iii) Low rotor revolutions per minute (RPM) and rotor stall;

(iv) Low G conditions, effects, and proper recovery procedures; and

(v) Rotor RPM decay.

(4) The general subject areas identified in paragraph 2(a)(3) of this SFAR are intended to cover both Robinson model R-22 and R-44 helicopters.

(5) A person who can show satisfactory completion of the manufacturer's safety course may obtain an endorsement from an FAA aviation safety inspector in lieu of completing the ground training required by paragraphs 2(a)(1) and (2) of this SFAR.

(b) Aeronautical Experience.

(1) No person may act as pilot in command of a Robinson model R-22 unless that person:

(i) Has logged at least 200 flight hours in helicopters, at least 50 flight hours of which were in the Robinson model R-22 helicopter; or

(ii) Has logged at least 10 hours of flight training in the Robinson model R-22 helicopter and has received an endorsement from a flight instructor authorized under paragraph 2(b)(5)(iv) of this SFAR that the individual has been given the training required by this paragraph 2(b)(1)(ii) and is proficient to act as pilot in command of an R-22. The flight training must include at least the following abnormal and emergency procedures:

(A) Training in autorotation procedures and energy management, including utilizing a combination of flight control inputs and maneuvering to prevent overshooting or undershooting the selected landing area from an entry altitude that permits safe recovery;

(B) Autorotations at an entry altitude that permits safe maneuvering and recovery utilizing maximum glide configuration;

(C) Engine rotor RPM control without the use of the governor; and

(D) Low rotor RPM recognition and recovery.

(iii) Pilots who do not meet the experience requirement of paragraph 2(b)(1)(i) of this SFAR may not act as pilot in command of a Robinson model R-22 helicopter beginning 12 calendar months after the date of the endorsement identified in paragraph 2(b)(1)(ii) of this SFAR until those pilots have:

(A) Completed a flight review of the ground training subject areas identified by paragraph 2(a)(3) of this SFAR and the flight training identified in paragraph 2(b)(1)(ii) of this SFAR in an R-22; and

(B) Obtained an endorsement for that flight review from a flight instructor authorized under paragraph 2(b)(5)(iv) of this SFAR.

(2) No person may act as pilot in command of a Robinson model R-44 helicopter unless that person—

(i) Has logged at least 200 flight hours in helicopters, at least 50 flight hours of which were in the Robinson model R-44 helicopter. The pilot in command may credit up to 25 flight hours in the Robinson model R-22 helicopter toward the 50-hour requirement in the Robinson model R-44 helicopter; or

(ii) Has logged at least 10 hours of flight training in a Robinson helicopter, at least 5 hours of which must have been accomplished in the Robinson model R-44 helicopter, and has received an endorsement from a flight instructor authorized under paragraph 2(b)(5)(iv) of this SFAR that the individual has been given the training required by this paragraph 2(b)(2)(ii) and is proficient to act as pilot in command of an R-44. The flight training must include at least the following abnormal and emergency procedures—

(A) Training in autorotation procedures and energy management, including utilizing a combination of flight control inputs and maneuvering to prevent overshooting or undershooting the selected landing area from an entry altitude that permits safe recovery;

(B) Autorotations at an entry altitude that permits safe maneuvering and recovery utilizing minimum rate of descent configuration and maximum glide configuration;

(C) Engine rotor RPM control without the use of the governor; and

(D) Low rotor RPM recognition and recovery.

(iii) Pilots who do not meet the experience requirement of paragraph 2(b)(2)(i) of this SFAR may not act as pilot in command of a Robinson model R-44 helicopter beginning 12 calendar months after the date of the endorsement identified in paragraph 2(b)(2)(ii) of this SFAR until those pilots have:

(A) Completed a flight review of the ground training subject areas identified by paragraph 2(a)(3) and the flight training identified in paragraph 2(b)(2)(ii) of this SFAR in an R-44; and

(B) Obtained an endorsement for that flight review from a flight instructor authorized under paragraph 2(b)(5)(iv) of this SFAR.

(3) A person who does not hold a rotorcraft category and helicopter class rating must have logged at least 20 hours of flight training in a Robinson model R-22 helicopter from a flight instructor authorized under paragraph 2(b)(5)(iv) of this SFAR prior to operating it in solo flight. In addition, the person must obtain an endorsement from a flight instructor authorized under paragraph 2(b)(5)(iv) of this SFAR that training has been given in those maneuvers and procedures, and the instructor has found the applicant proficient to solo a Robinson model R-22 helicopter. This endorsement is valid for a period of 90 days. The flight training must include at least the following abnormal and emergency procedures:

(i) Training in autorotation procedures and energy management, including utilizing a combination of flight control inputs and maneuvering to prevent overshooting or undershooting the selected landing area from an entry altitude that permits safe recovery;

(ii) Autorotations at an entry altitude that permits safe maneuvering and recovery utilizing maximum glide configuration;

(iii) Engine rotor RPM control without the use of the governor; and

(iv) Low rotor RPM recognition and recovery.

(4) A person who does not hold a rotorcraft category and helicopter class rating must have logged at least 20 hours of flight training in a Robinson model R-44 helicopter from a flight instructor authorized under paragraph 2(b)(5)(iv) of this SFAR prior to operating it in solo flight. In addition, the person must obtain an endorsement from a flight instructor authorized under paragraph 2(b)(5)(iv) of this SFAR that training has been given in those maneuvers and procedures and the instructor has found the applicant proficient to solo a Robinson model R-44 helicopter. This endorsement is valid for a period of 90 days. The flight training must include at least the following abnormal and emergency procedures:

(i) Training in autorotation procedures and energy management, including utilizing a combination of flight control inputs and maneuvering to prevent overshooting or undershooting the selected landing area from an entry altitude that permits safe recovery;

(ii) Autorotations at an entry altitude that permits safe maneuvering and recovery utilizing minimum rate of descent configuration and maximum glide configuration;

(iii) Engine rotor RPM control without the use of the governor, and

(iv) Low rotor RPM recognition and recovery.

(5) No flight instructor may provide training or conduct a flight review in a Robinson R-22 or R-44 unless that instructor—

(i) Completes the ground training in paragraph 2(a) of this SFAR.

(ii) For the Robinson model R-22 helicopter, has logged at least 200 flight hours in helicopters, at least 50 flight hours of which were in the Robinson model R-22 helicopter, or for the Robinson model R-44 helicopter, logged at least 200 flight hours in helicopters, 50 flight hours of which were in Robinson helicopters. Up to 25 flight hours of Robinson model R-22 helicopter flight time may be credited toward the 50-hour requirement.

(iii) Has completed flight training in a Robinson model R-22 or R-44 helicopter, or both, on the following abnormal and emergency procedures—

(A) Training in autorotation procedures and energy management, including utilizing a combination of flight control inputs and maneuvering to prevent overshooting or undershooting the selected landing area from an entry altitude that permits safe recovery;

(B) For the Robinson model R-22 helicopter, autorotations at an entry altitude that permits safe maneuvering and recovery utilizing maximum glide configuration. For the Robinson model R-44 helicopter, autorotations at an entry altitude that permits safe maneuvering and recovery utilizing maximum glide configuration and minimum rate of descent configuration;

(C) Engine rotor RPM control without the use of the governor; and

(D) Low rotor RPM recognition and recovery.

(iv) Has been authorized by endorsement from an FAA aviation safety inspector or authorized designated examiner that the instructor has completed the appropriate training, meets the experience requirements, and has satisfactorily demonstrated an ability to provide training on the general subject areas of paragraph 2(a)(3) of this SFAR, and the flight training identified in paragraph 2(b)(5)(iii) of this SFAR.

(c) Flight Review.

(1) No flight review completed to satisfy § 61.56 by an individual after becoming eligible to function as pilot in command in a Robinson model R-22 helicopter shall be valid for the operation of an R-22 unless that flight review was taken in an R-22.

(2) No flight review completed to satisfy § 61.56 by an individual after becoming eligible to function as pilot in command in a Robinson model R-44 helicopter shall be valid for the operation of an R-44 unless that flight review was taken in the R-44.

(3) The flight review will include a review of the ground training subject areas of paragraph 2(a)(3) of this SFAR and flight training in abnormal and emergency procedures in the Robinson model R-22 or R-44 helicopter, as appropriate, identified in paragraph 2(b) of this SFAR.

(d) Currency Requirements. No person may act as pilot in command of a Robinson model R-22 or R-44 helicopter carrying passengers unless the pilot in command has met the recency of flight experience requirements of § 61.57 in an R-22 or R-44, as appropriate.

3. Expiration date. This SFAR expires August 22, 2029, unless sooner revised or rescinded.

Issued under authority provided by 49 U.S.C. 106(f), 44701(a), and 44703 in Washington, DC.
Michael Gordon Whitaker,
Administrator.

[FR Doc. 2024-15924 Filed 7-22-24; 8:45 am]

BILLING CODE 4910-13-P